COMMITTEE FOR PURCHASE FROM PEOPLE WHO ARE BLIND OR SEVERELY DISABLED

Procurement List; Additions

AGENCY: Committee for Purchase from People Who Are Blind or Severely Disabled.

ACTION: Additions to procurement list.

SUMMARY: This action adds to the Procurement List services to be furnished by nonprofit agencies employing persons who are blind or have other severe disabilities.

EFFECTIVE DATE: Effective September 5, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: On June 14, 2004, the Committee for Purchase From People Who Are Blind or Severely Disabled published notice (69 F.R. 32975/32976) of proposed additions to the Procurement List. After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services:

Service Type/Location: Custodial & Grounds Maintenance Federal Building, 100 Bluestone Road, Mount Hope, West Virginia.

NPA: Wyoming County Workshop, Inc., Maben, West Virginia.

Contract Activity: GSA, PBS, Region 3 (3PMT), Philadelphia, Pennsylvania.

Service Type/Location: Custodial Services, Naval Reserve Center, White River Junction, Vermont.

NPA: Northern New England Employment Services, Portland, Maine.

Contract Activity: Naval Facilities Engineering Command—Portsmouth, Portsmouth, New Hampshire.

Service Type/Location: Custodial Services, USDA AMS S&T FLS, National Science Laboratory, Gastonia, North Carolina.

NPA: Gaston Skills, Inc., Gastonia, North Carolina.

Contract Activity: USDA, Animal & Plant Health Inspection Service, Minneapolis, Minnesota.

Service Type/Location: Custodial Services, Veterans Administration Community Based Outpatient Clinic, Traverse City, Michigan.

NPA: GTP Industries, Inc., Traverse City, Michigan.

Contract Activity: VA Medical Center—Saginaw, Michigan.

Service Type/Location: Custodial Services, Base-wide, Yuma Proving Ground, (Excluding Buildings 3013, 611, and 3189), Yuma, Arizona.

NPA: Yuma WORC Center, Inc., Yuma, Arizona.

Contract Activity: Army Contracting Agency, Yuma Proving Ground, Arizona.

Service Type/Location: Grounds Maintenance, Defense Supply Center Richmond, Richmond, Virginia.

NPA: Richmond Area Association for Retarded Citizens, Richmond, Virginia.

Contract Activity: Defense Supply Center Richmond, Richmond, Virginia.

Service Type/Location: Medical Transcription, 355th Medical Supply-F5HOSP, Davis-Monthan AFB, Arizona.

NPA: National Telecommuting Institute, Inc., Boston, Massachusetts.

Contract Activity: 355th Contracting Squadron, Davis-Monthan AFB, Arizona.

Service Type/Location: Telephone/Switchboard Operator, VA Northern California Health Care System, Martinez, California, VA Sacramento Medical Center at Mather Field, Mather, California.

NPA: Project HIRED, Santa Clara, California.

Contract Activity: VISN 21 Consolidated Contracting Activity, San Francisco, California. This action does not affect current contracts awarded prior to the effective date of this addition or options that may be exercised under those contracts.

Sheryl D. Kennerly,
Director, Information Management.

[FR Doc. 04-18007 Filed 8-5-04; 8:45 am]

BILLING CODE 6353-01-P